DEPARTMENT OF HEALTH AND HUMAN SERVICES

Administration for Children and Families

[OMB No. 0970-0391]

Proposed Information Collection Activity; 2024 National Survey of Early Care and Education

AGENCY: Office of Planning, Research, and Evaluation, Administration for Children and Families, U.S. Department of Health and Human Services.

ACTION: Request for public comments.

SUMMARY: The Administration for Children and Families (ACF), U. S. Department of Health and Human Services (HHS), is proposing a data collection activity as part of the 2024 National Survey of Early Care and Education to be conducted October 2023 through July 2024. The objective of the 2024 NSECE is to document the nation's use and availability of early care and education (ECE) services, building on the information collected in 2012 and 2019 to describe the ECE landscape in the U.S. The 2024 NSECE will collect information on families with children under age 13 years, on ECE providers that serve families with children from birth to 13 years in the U.S., and on the workforce providing these services.

DATES: Comments due within 60 days of publication. In compliance with the requirements of the Paperwork Reduction Act (PRA) of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The 2024 NSECE will consist of four coordinated nationally-representative surveys:

1. a survey of households with at least one resident child under the age of 13 (Household Interview),

2. a survey of individuals providing care for children under the age of 13 in a residential setting (Home-based Provider Interview) including individuals appearing on state and national lists of ECE providers (listed) and individuals not appearing on such lists (unlisted),

3. a survey of center-based ECE providers offering care for children aged 5 years and under, not yet in kindergarten, in a non-residential setting (Center-based Provider Interview), and

4. a survey conducted with individuals employed in center-based ECE programs working directly with children in classrooms serving children age 5 years and under, not yet in kindergarten (Workforce Interview).

The household, home-based provider, and center-based provider surveys will require a screener to determine eligibility for the specific survey.

The 2024 NSECE data collection efforts will provide urgently needed information about the use and supply of ECE available to families across all income levels, including providers serving low-income families of various racial, ethnic, language, and cultural backgrounds, in diverse geographic areas. The household data will include characteristics of households with children under age 13, such as parental employment status and schedules, preferences and choices of non-parental care, and other key factors that affect their need for and access to ECE. The provider data will include home-based or center-based ECE providers (e.g., private, non-profit, Head Start-funded, state or local Pre-K, or based in public schools) that do or do not participate in the child care subsidy program, and are or are not regulated, registered, or otherwise appear in state or national lists. Accurate data on families with young children and the availability and characteristics of ECE providers are essential to assess the current and changing landscape of ECE since the 2019 NSECE data collection, and to provide insights to advance policy and initiatives in the ECE field. The two previous rounds of NSECE, collected in 2012 and 2019, produced critical data about providers of ECE services, the ECE workforce, and families' needs and use of child care throughout the U.S. that remain unmatched by other data sources available.

Respondents: Households with resident children under age 13, home-based ECE providers serving children under age 13 (listed and unlisted), center-based ECE providers serving children aged 5 and under (not yet in kindergarten), and classroom-assigned instructional staff (workforce) members working with children aged 5 and under (not yet in kindergarten) in center-based ECE programs.

Annual Burden Estimates
Instrument | Number of respondents (total over request period) | Number of responses per respondent (total over request period) | Avg. burden per response (in hours) | Total/annual burden (in hours)
Household screener (screening only) | 62,758 | 1 | .1 | 6,276
Household Questionnaire (no screener) | 10,000 | 1 | 1 | 10,000
Home-based Provider Screener (screening only, listed home-based providers) | 2,064 | 1 | .03 | 62
Home-based Provider Questionnaire including screener (listed home-based providers) | 4,360 | 1 | .67 | 2,921
Home-based Provider Questionnaire, including screener (unlisted home-based providers) | 1,158 | 1 | .33 | 382
Center-based Provider Screener (screening only) | 10,050 | 1 | .1 | 1,005
Center-based Provider Questionnaire, including screener | 8,392 | 1 | .75 | 6,294
Workforce (Classroom Staff) Questionnaire | 7,418 | 1 | .33 | 2,448

Estimated Total Annual Burden Hours: 29,388.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Care and Development Block Grant Act of 1990 as amended by the CCDBG Act of 2014 (Pub. L. 113-186). Social Security Act 418 as extended by the Continuing Appropriations Act of 2017 and the TANF Extension Act of 2019. Section 3507 of the PRA of 1995, 44 U.S.C. Chapter 35.

John M. Sweet Jr.,
ACF/OPRE Certifying Officer.

[FR Doc. 2023-00728 Filed 1-13-23; 8:45 am]

BILLING CODE 4184-23-P